ENVIRONMENTAL PROTECTION AGENCY

40 CFR Part 271

[FRL-6840-6]

INDIANA: Final Authorization of State Hazardous Waste Management Program Revisions

AGENCY: Environmental Protection Agency (EPA).

ACTION: Proposed rule.

SUMMARY: The EPA proposes to grant final authorization to the hazardous waste program revisions submitted by Indiana. In the “Rules and Regulations” section of this Federal Register, EPA is authorizing the State's program revisions as an immediate final rule without prior proposal because EPA views this action as noncontroversial and anticipates no adverse comments. The Agency has explained the reasons for this authorization in the preamble to the immediate final rule. If EPA does not receive adverse written comments, the immediate final rule will become effective and the Agency will not take further action on this proposal. If EPA receives adverse written comments, EPA will withdraw the immediate final rule and it will not take effect. EPA will then address public comments in a later final rule based on this proposal. EPA may not provide further opportunity for comment. Any parties interested in commenting on this action must do so at this time.

DATES: Written comments must be received on or before August 25, 2000.

ADDRESSES: Mail written comments to Gary Westefer, Indiana Regulatory Specialist, United States Environmental Protection Agency Region 5, DM-7J, 77 West Jackson Boulevard, Chicago, Illinois 60604, telephone (312) 886-7450. You can examine copies of the materials submitted by Indiana during normal business hours at the following locations: EPA Region 5 , contact Gary Westefer at the above address and telephone number; or Lynn West, Indiana Department of Environmental Management, 100 North Senate, Indianapolis, Indiana, 46206, telephone: (317) 232-3593.

FOR FURTHER INFORMATION CONTACT: Gary Westefer at (312) 886-7450.

SUPPLEMENTARY INFORMATION: For additional information, please see the immediate final rule published in the “Rules and Regulations” section of this Federal Register.

Dated: June 23, 2000.
Francis X. Lyons,
Regional Administrator, Region 5.

[FR Doc. 00-18790 Filed 7-25-00; 8:45 am]

BILLING CODE 6560-50-U